DEPARTMENT OF HOMELAND SECURITY

Federal Emergency Management Agency

[Docket ID FEMA-2019-0002]

Final Flood Hazard Determinations

AGENCY: Federal Emergency Management Agency, DHS.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The date of December 20, 2019 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Department of Homeland Security, Federal Emergency Management Agency.

Community | Community map repository address
San Diego County, California and Incorporated Areas Docket No.: FEMA-B-1742
City of Carlsbad | Building and Development Department, 1635 Faraday Avenue, Carlsbad, CA 92008.
City of Chula Vista | City Hall, 276 4th Avenue, Chula Vista, CA 91910.
City of Coronado | City Hall, 1825 Strand Way, Coronado, CA 92118.
City of Del Mar | City Hall, 2010 Jimmy Durante Boulevard, Suite 120, Del Mar, CA 92014.
City of Encinitas | City Hall, 505 South Vulcan Avenue, Encinitas, CA 92024.
City of Imperial Beach | City Hall, 825 Imperial Beach Boulevard, Imperial Beach, CA 91932.
City of National City | City Hall, 1243 National City Boulevard, National City, CA 91950.
City of Oceanside | City Hall, 300 North Coast Highway, Oceanside, CA 92054.
City of San Diego | Engineering Branch, 525 B Street, Suite 750, MS 908A, San Diego, CA 92101.
City of Solana Beach | City Hall, 635 South Highway 101, Solana Beach, CA 92075.
Unincorporated Areas of San Diego County | Department of Public Works, 5510 Overland Avenue, Suite 410, MS 0326, San Diego, CA 92123.
Clear Creek County, Colorado and Incorporated Areas Docket No.: FEMA-B-1749
City of Idaho Springs | City Hall, 1711 Miner Street, Idaho Springs, CO 80452.
Town of Georgetown | Town Hall, 404 6th Street, Georgetown, CO 80444.
Unincorporated Areas of Clear Creek County | Clear Creek County Annex, 1111 Rose Street, Georgetown, CO 80444.
Jefferson County, Colorado and Incorporated Areas Docket No.: FEMA-B-1749
City of Arvada | Engineering Department, 8101 Ralston Road, Arvada, CO 80002.
City of Golden | Public Works Department, 1445 10th Street, Golden, CO 80401.
Unincorporated Areas of Jefferson County | Jefferson County Planning and Zoning Division, 100 Jefferson County Parkway, Suite 3550, Golden, CO 80419.
Hart County, Georgia and Incorporated Areas Docket No.: FEMA-B-1849
City of Hartwell | City Hall, 456 East Howell Street, Hartwell, GA 30643.
Unincorporated Areas of Hart County | Hart County Government Office, 800 Chandler Street, Hartwell, GA 30643.
Benton County, Iowa and Incorporated Areas Docket No.: FEMA-B-1843
City of Atkins | City Hall, 480 3rd Avenue, Atkins, IA, 52206.
City of Belle Plaine | City Hall, 1207 8th Avenue, Belle Plaine, IA, 52208.
City of Blairstown | City Hall, 305 Locust Street Northwest, Blairstown, IA, 52209.
City of Garrison | Garrison Public Library, 201 East Pine Street, Garrison, IA 52229.
City of Keystone | City Hall, 208 1st Street, Keystone, IA, 52249.
City of Newhall | City Hall, 11 2nd Avenue, Newhall, IA 52315.
City of Norway | City Hall, 108 Railroad Street, Norway, IA, 52318.
City of Shellsburg | City Hall, 108 Main Street Southeast, Shellsburg, IA, 52332.
City of Urbana | City Hall, 102 Capitol Avenue, Urbana, IA, 52345.
City of Van Horne | City Hall, 114 Main Street, Van Horne, IA, 52346.
City of Vinton | City Hall, 110 West 3rd Street, Vinton, IA, 52349.
Unincorporated Areas of Benton County | Benton County Courthouse, 111 East 4th Street, Vinton, IA, 52349.
Grundy County, Iowa and Incorporated Areas Docket No.: FEMA-B-1843
City of Beaman | City Hall, 227 Main Street, Beaman, IA 50609.
City of Conrad | City Hall, 204 East Center Street, Conrad, IA 50621.
City of Dike | City Hall, 540 Main Street, Dike, IA 50624.
City of Grundy Center | City Hall, 703 F Avenue, Suite 2, Grundy Center, IA 50638.
City of Holland | City Hall, 106 Main Street, Holland, IA 50642.
City of Morrison | City Hall, 204 Sycamore Street, Morrison, IA 50657.
City of Reinbeck | City Hall, 414 Main Street, Reinbeck, IA 50669.
City of Wellsburg | City Hall, 515 North Adams Street, Wellsburg, IA 50680.
Unincorporated Areas of Grundy County | Grundy County Engineer's Office, 22580 M Avenue, Grundy Center, IA 50638.
Hamilton County, Iowa and Incorporated Areas Docket No.: FEMA-B-1843
City of Ellsworth | City Hall, 1528 DeWitt Street, Ellsworth, IA 50075.
City of Jewell | City Hall, 701 Main Street, Jewell, IA 50130.
City of Kamrar | City Hall, 414 Elm Street, Kamrar, IA 50132.
City of Webster City | City Hall, 400 2nd Street, Webster City, IA 50595.
Unincorporated Areas of Hamilton County | Hamilton County Courthouse, 2300 Superior Street, Suite 4, Webster City, IA 50595.
Norman County, Minnesota and Incorporated Areas Docket No.: FEMA-B-1843
City of Halstad | Administrative Building, 405 2nd Avenue West, Halstad, MN 56548.
City of Hendrum | Administrative Building, 308 Main Street East, Hendrum, MN 56550.
Unincorporated Areas of Norman County | County Court House, 16 3rd Avenue East, Ada, MN 56510.
Livingston County, Missouri and Incorporated Areas Docket No.: FEMA-B-1853
City of Chillicothe | City Hall, 715 Washington Street, Chillicothe, MO, 64601.
City of Chula | Livingston County Courthouse, 700 Webster Street, Chillicothe, MO, 64601.
City of Wheeling | City Hall, 210 North Grant Street, Wheeling, MO, 64688.
Unincorporated Areas of Livingston County | Livingston County Courthouse, 700 Webster Street, Chillicothe, MO, 64601.
Village of Utica | Livingston County Courthouse, 700 Webster Street, Chillicothe, MO, 64601.
Warren County, Ohio and Incorporated Areas Docket Nos.: FEMA-B-1452 and B-1843
City of Franklin | City Building, 1 Benjamin Franklin Way, Franklin, OH 45005.
Unincorporated Areas of Warren County | Administration Building, 406 Justice Drive, Lebanon, OH, 45036.
Village of Carlisle | Town Hall, 760 Central Avenue, Carlisle, OH 45005.
Aransas County, Texas and Incorporated Areas Docket No.: FEMA-B-1836
City of Aransas Pass | City Hall, 600 West Cleveland Boulevard, Aransas Pass, TX 78336.
Hill County, Texas and Incorporated Areas Docket No.: FEMA-B-1841
City of Abbott | City Hall, 208 East Walnut Street, Abbott, TX 76621.
City of Covington | City Hall, 402 Gathings Avenue, Covington, TX 76636.
City of Hillsboro | Community Development Department, 214 East Elm Street, Hillsboro, TX 76645.
City of Itasca | City Hall, 134 North Hill Street, Itasca, TX 76055.
Unincorporated Areas of Hill County | Hill County Courthouse, John W. Erwin Annex, 200 East Franklin Street, Suite 9, Hillsboro, TX 76645.
McLennan County, Texas and Incorporated Areas Docket No.: FEMA-B-1841
City of Bellmead | City Hall, 3015 Bellmead Drive, Bellmead, TX 76705.
City of Hallsburg | City Hall, 1115 Wilbanks Drive, Hallsburg, TX 76705.
City of Hewitt | Planning and Community Development, 103 North Hewitt Drive, Suite E, Hewitt, TX 76643.
City of Lacy-Lakeview | City Hall, 501 East Craven Avenue, Lacy-Lakeview, TX 76705.
City of Leroy | City Hall, 10 East Commerce Street, Leroy, TX 76654.
City of Riesel | City Hall, 104 North Highway 6, Riesel, TX 76682.
City of Robinson | City Hall, 111 West Lyndale Drive, Robinson, TX 76706.
City of Ross | Ross City Hall, 1557 Ross Road, Elm Mott, TX 76640.
City of Waco | Dr. Mae Jackson Development Center, 401 Franklin Avenue, Waco, TX 76701.
City of West | City Hall, 110 North Reagan Street, West, TX 76691.
Unincorporated Areas of McLennan County | McLennan County Records Building, 215 North 5th Street, Room 130, Waco, TX 76701.
San Patricio County, Texas and Incorporated Areas Docket No.: FEMA-B-1836
City of Aransas Pass | City Hall, 600 West Cleveland Boulevard, Aransas Pass, TX 78336.
Williamson County, Texas and Incorporated Areas Docket Nos.: FEMA-B-1769 and FEMA-B-1830
City of Austin | Watershed Engineering Division, 505 Barton Springs Road, 12th Floor, Austin, TX 78704.
City of Cedar Park | City Hall, 450 Cypress Creek Road, Building 1, Cedar Park, TX 78613.
City of Coupland | Coupland Fire Station, 403 FM 1466, Coupland, TX 78615.
City of Georgetown | Georgetown Utility Systems, 300-1 Industrial Avenue, Georgetown, TX 78626.
City of Granger | City Hall, 119 East Davilla Street, Granger, TX 76530.
City of Hutto | Department of Public Works, 210 U.S. 79 East, Suite 203, Hutto, TX 78634.
City of Leander | City Hall, 105 North Brushy Street, Leander, TX 78641.
City of Round Rock | Utilities and Environment Services, 2008 Enterprise Drive, Round Rock, TX 78664.
City of Taylor | City Hall, 400 Porter Street, Taylor, TX 76574.
City of Thrall | City Hall, 104 South Main Street, Thrall, TX 76578.
City of Weir | City Hall, 2205 South Main Street, Weir, TX 78674.
Unincorporated Areas of Williamson County | Williamson County Central Maintenance Facility, 3151 South East Inner Loop, Suite B, Georgetown, TX 78626.

[FR Doc. 2019-17020 Filed 8-7-19; 8:45 am]

BILLING CODE 9110-12-P